DEPARTMENT OF VETERANS AFFAIRS

Advisory Committee on Minority Veterans, Notice of Meeting

The Department of Veterans Affairs (VA) gives notice under the Public Law 92-463 (Federal Advisory Committee Act) that the Advisory Committee on Minority Veterans will meet on November 14-16, 2012, at the Department of Veterans Affairs, 810 Vermont Avenue NW., Washington, DC. On November 14-15, the sessions will be in room 430 from 8 a.m. until 5:30 p.m. and on November 16 in room 730 from 8 a.m. until 1 p.m. This meeting is open to the public.

The purpose of the Committee is to advise the Secretary on the administration of VA benefits and services to minority Veterans; to assess the needs of minority Veterans; and to evaluate whether VA compensation, medical and rehabilitation services, outreach, and other programs are meeting those needs. The Committee makes recommendations to the Secretary regarding such activities.

On November 14, the Committee will receive briefings and updates from the Veterans Benefits Administration (VBA), Center for Minority Veterans, Office of Public and Intergovernmental Affairs, Veterans Health Administration (VHA), and a panel discussion with ex- officio members. On November 15, the Committee will receive briefings and updates on the National Cemetery Administration (NCA), Office of Diversity and Inclusion, Office of Health Equity, and a special panel discussion with Center for Women Veterans, Center for Faith-Based and Neighborhood Partnership, Office of Survivors Assistance, VA for Vets, and Office of Small and Disadvantaged Business Utilization. On November 16, the Committee will hold an exit briefing with VBA, VHA and NCA. The Committee will receive public comments from 10:30 a.m. to 10:45 a.m. After public comment, the Committee will continue to work on their report.

A sign-in sheet for those who want to give comments will be available at the meeting. Individuals who speak are invited to submit a 1-2 page summaries of their comments at the time of the meeting for inclusion in the official meeting record. Members of the public may also submit written statements for the Committee's review to Mr. Dwayne Campbell, Department of Veterans Affairs, Center for Minority Veterans (00M), 810 Vermont Avenue NW., Washington, DC 20420, or email at Dwayne.Campbell3@va.gov. Any member of the public wishing to attend or seeking additional information should contact Mr. Campbell or Mr. Ronald Sagudan at (202) 461-6191 or by fax at (202) 273-7092.

Dated: October 18, 2012.
By Direction of the Secretary:
Vivian Drake,
Committee Management Officer.

[FR Doc. 2012-26084 Filed 10-23-12; 8:45 am]

BILLING CODE 8320-01-P